DEPARTMENT OF HEALTH AND HUMAN SERVICES

Centers for Disease Control and Prevention

Disease, Disability, and Injury Prevention and Control Special Emphasis Panel (SEP)—RFA OH-23-004, NIOSH Miner Safety and Health Program—Western Mining States Review, and RFA OH-23-005, NIOSH Robotic Mining Review; Amended Notice of Closed Meeting

Notice is hereby given of a change in the meeting of the Disease, Disability, and Injury Prevention and Control Special Emphasis Panel (SEP)—RFA OH-23-004, NIOSH Miner Safety and Health Program—Western Mining States Review, and RFA OH-23-005, NIOSH Robotic Mining Review; May 25, 2023, 1 p.m.-5 p.m., EDT, teleconference, in the original Federal Register notice. The meeting was published in the Federal Register on February 22, 2023, Volume 88, Number 35, page 10905.

The meeting is being amended to change the Notice of Funding Opportunity (NOFO) titles and should read as follows:

Name of Committee: Disease, Disability, and Injury Prevention and Control Special Emphasis Panel (SEP)—RFA-OH-23-004, Miner Safety and Health Training Program—Western United States, and RFA-OH-23-005, NIOSH Robotics and Intelligent Mining Technology and Workplace Safety Research (U60).

The meeting is closed to the public.

FOR FURTHER INFORMATION CONTACT: Michael Goldcamp, Ph.D., Scientific Review Officer, Office of Extramural Programs, National Institute for Occupational Safety and Health, Centers for Disease Control and Prevention, 1905 Willowdale Road, Morgantown, West Virginia, 26506. Telephone: (304) 285-5951; Email: MGoldcamp@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-08579 Filed 4-21-23; 8:45 am]

BILLING CODE 4163-18-P